GENERAL SERVICES ADMINISTRATION

Office of Management Services; Printed Construction Cancellation of a Standard Form by the Department of Defense

AGENCY: Office of Management Services, GSA.

ACTION: Notice.

SUMMARY: Because of low usage only the padded, cutsheet version of the following Standard Form is cancelled by the Department of Defense: SF 153, COMSEC Material Report (NSN 7540-00-042-8528).

The 4-part marginally punched set form (NSN 7540-00-935-5860) is still current and available from the Federal Supply Service.

DATES: Effective July 8, 2002.

FOR FURTHER INFORMATION CONTACT: Ms. Barbara Williams, General Services Administration, (202) 501-0581.

Dated: June 17, 2002.
Barbara M. Williams,
Deputy Standard and Optional Forms Management Officer, General Services Administration.

[FR Doc. 02-16978 Filed 7-5-02; 8:45 am]

BILLING CODE 6820-34-M